Proclamation 9149 of July 25, 2014

Minority Enterprise Development Week, 2014

By the President of the United States of America

A Proclamation

Our Nation thrives when we fulfill the promise of opportunity for all—when each of us has the same chance to succeed, when every American can find pride and independence in their work, when our shared prosperity rests upon the broad shoulders of a rising middle class. With talent, dedication, and bold ideas, minority entrepreneurs reach for that promise. They bring jobs and services to communities across our country. They innovate and create. They open new markets to goods stamped “Made in the U.S.A.” During Minority Enterprise Development Week, we celebrate their essential role in our economy and our communities.

Minority-owned businesses employ millions of Americans, and my Administration is proud to invest in their success. We have increased access to contracts and capital, reduced burdensome paperwork, and connected more minority enterprises to booming export markets. Since I took office, my Administration has made more loans to small business owners than any other. By hosting workshops and through www.Business.USA.gov, we are empowering minority entrepreneurs with the tools to help their businesses grow.

America's great strength lies in our diversity—of people, perspectives, and ideas. We cannot succeed when a shrinking few do very well and a growing many barely make it. But if we invest in small businesses and give all our entrepreneurs a chance to compete, new opportunities will open, and we will flourish—as individuals and as a Nation.

NOW, THEREFORE, I, BARACK OBAMA, President of the United States of America, by virtue of the authority vested in me by the Constitution and the laws of the United States, do hereby proclaim July 27 through August 2, 2014, as Minority Enterprise Development Week. I call upon all Americans to celebrate this week with appropriate programs, ceremonies, and activities to recognize the many contributions of our Nation's minority enterprises.

IN WITNESS WHEREOF, I have hereunto set my hand this twenty-fifth day of July, in the year of our Lord two thousand fourteen, and of the Independence of the United States of America the two hundred and thirty-ninth.

[FR Doc. 2014-18160

Filed 7-30-14; 8:45 am]

Billing code 3295-F4